DEPARTMENT OF HOMELAND SECURITY

Coast Guard

[Docket No. USCG-2014-0405]

Navigation Safety Advisory Council

AGENCY: Coast Guard, DHS.

ACTION: Notice of Federal Advisory Committee Meeting.

SUMMARY: The Navigation Safety Advisory Council (NAVSAC) will meet on June 11-12, 2014 in Arlington, Virginia to discuss matters relating to maritime collisions, rammings, and groundings, Inland Rules of the Road, International Rules of the Road, navigation regulations and equipment, routing measures, marine information, diving safety, and aids to navigation systems. These meetings will be open to the public.

DATES: NAVSAC will meet Wednesday, June 11, 2014, from 8 a.m. to 5 p.m., and Thursday, June 12, 2014, from 8 a.m. to 1 p.m. Please note that these meetings may close early if the Council has completed its business. Pre-registration, all submitted written materials, comments and request to make oral presentations at the meetings should reach Mr. Burt Lahn, NAVSAC meeting Coordinator no later than

May 28, 2014. For contact information, please see the FOR FURTHER INFORMATION CONTACT section below. Any written material submitted by the public will be distributed to the Council and become part of the public record.

ADDRESSES: The meeting will be held at the Coast Guard Personnel Service Center, 9th floor conference room, 4200 Wilson Boulevard, Suite 900, Arlington, Virginia 20598.

https://maps.google.com/maps?hl=en&gbv=2&safe=active&q=4200+Wilson+Boulevard,+Suite+900&ie=UTF-8&hq=&hnear=0x89b7b42469129bbb:0xe556c5a677a3032b,4200+Wilson+Blvd.+%23900,+Arlington,+VA+22203&gl=us&ei=-utCU6e2Gq_NsQTF-4CIBA&ved=0CBwQ8gEoATAA. All visitors to the Coast Guard Personnel Service Center must pre-register to be admitted to the building. You may pre-register by contacting Mr. Burt Lahn listed in the FOR FURTHER INFORMATION CONTACT section below.

For information on facilities or services for individuals with disabilities or to request special assistance at the meeting, contact Mr. Burt Lahn listed in the FOR FURTHER INFORMATION CONTACT section below as soon as possible.

To facilitate public participation, we are inviting public comment on the issues to be considered by the committee as listed in the “Agenda” section below. You may submit written comments no later than May 28, 2014 and must be identified by USCG-2014-0405 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE. Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov insert USCG-2014-0405 in the Search box, press Enter, and then click on the item you wish to view.

A public comment period will be held during the meeting on June 11, 2014, from 3:00 p.m. to 4:00 p.m. and June 12, 2014 prior to the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about these meetings, please contact Mr. Mike Sollosi, the NAVSAC Alternate Designated Federal Officer (ADFO), Commandant (CG-NAV-3), U.S. Coast Guard, 2703 Martin Luther King Jr. Avenue SE., Stop 7418, Washington, DC 20593, telephone 202-372-1545 or email mike.m.sollosi@uscg.mil, or Mr. Burt Lahn, NAVSAC meeting coordinator, at telephone 202-372-1526 or email burt.a.lahn@uscg.mil. If you have questions on viewing or submitting material to the docket, call Cheryl Collins, Program Manager, Docket Operations, telephone 202-366-9826 or 1-800-647-5527.

SUPPLEMENTARY INFORMATION: Notice of this meeting is given under the Federal Advisory Committee Act (FACA), 5 U.S.C. Appendix, Public Law 92-463, 86 Stat, 770, as amended.

The NAVSAC is an advisory committee authorized in 33 U.S.C. 2073 and chartered under the provisions of the FACA. NAVSAC provides advice and recommendations to the Secretary, through the Commandant of the U.S. Coast Guard, on matters relating to prevention of maritime collisions, rammings, and groundings, Inland and International Rules of the Road, navigation regulations and equipment, routing measures, marine information, diving safety, and aids to navigation systems.

A copy of all meeting documentation is available at https://homeport.uscg.mil/NAVSAC. Alternatively, you may contact Mr. Burt Lahn as noted in the FOR FURTHER INFORMATION CONTACT section above.

The meeting will be held at the Coast Guard Personnel Service Center, 9th floor conference room, 4200 Wilson Boulevard, Suite 900, Arlington, Virginia 20598.

Agenda: The NAVSAC will meet to review, discuss and formulate recommendations on the following topics:

Wednesday, June 11, 2014:

(1) Update on all past resolutions to the Council.

(2) The Coast Guard's Future of Navigation initiative. This program leverages technology in order to optimize navigation services provided by the Coast Guard in cooperation with the U.S. Corps of Engineers and the National Oceanic and Atmospheric Administration. The Coast Guard will provide information on this project including updates on international developments in E-Navigation and the Coast Guard's efforts to put e-Navigation principles into practice, which includes deployment of AIS aids to Navigation and enhanced delivery of marine safety information to better serve commercial and recreational waterway users.

(3) Atlantic Coast Ports Access Route Study (ACPARS). The ACPARS was initiated to study the navigational users and industrial development off the Atlantic Coast. The Coast Guard will provide an update on the results of this ongoing effort.

Following the above presentations, the Council will form working groups to discuss and provide recommendations on the following tasks as appropriate:

(1) NAVSAC Task 14-01—Modernization of Marine Safety Information systems

(2) NAVSAC Task 14-02—Automatic Identification Systems (AIS) Aids to Navigation

(3) NAVSAC Task 14-03—Navigation Interests in Marine Planning

Public comments or questions will be taken during the meeting as the Council discusses each issue and prior to the Council formulating recommendations on each issue. There will also be a public comment period at the end of the meeting.

Thursday, June 12, 2014:

(1) Working Group discussions continued from June 11, 2014.

(2) Working Group reports presented to the Council.

(3) New Business:

a. Summary of NAVSAC action items.

b. Schedule next meeting date—Fall 2014.

c. Council discussions and acceptance of new tasks.

A public comment period will be held after the discussion of new tasks. Speakers' comments are limited to 10 minutes each. Public comments or questions will be taken at the discretion of the Designated Federal Official (DFO) during the discussion and recommendations, and new business portion of the meeting.

Minutes: Minutes from the meeting will be available for public view and copying within 90 days following the meeting at https://homeport.mil/NAVSAC.

Dated: May 19, 2014.
G.C. Rasicot,
Director, Marine Transportation Systems, U.S. Coast Guard.

[FR Doc. 2014-11958 Filed 5-22-14; 8:45 am]

BILLING CODE 9110-04-P